DEPARTMENT OF HOMELAND SECURITY

Federal Emergency Management Agency

[Docket ID FEMA-2008-0016]

National Incident Management System Intelligence/Investigations Function Guidance Document

AGENCY: Federal Emergency Management Agency, DHS.

ACTION: Notice of availability; request for comments.

SUMMARY: The Federal Emergency Management Agency (FEMA) is accepting comments on the National Incident Management System (NIMS) Intelligence/Investigations Function Guidance Document (NIMS I&I). This document provides guidance on utilizing and integrating the Intelligence/Investigations Function while adhering to the concepts and principles of the NIMS. NIMS I&I presents information intended for the ICS practitioner that will assist in the decision-making process regarding the placement of the Function within the command structure, and provides tools that may be used while implementing the Function. The Function has aspects that cross disciplines, including traditional law enforcement, epidemiological investigations, regulatory investigations, and medical examiner/coroner investigations, as well as those conducted by the National Transportation Safety Board or other investigatory agencies. This Function can be utilized for planned events, as well as incidents.

DATES: Comments must be received by January 21, 2009.

ADDRESSES: The NIMS I&I is available online at http://www.regulations.gov. You may also view a hard copy of the NIMS I&I at the Office of Chief Counsel, Federal Emergency Management Agency, Room 835, 500 C Street, SW., Washington, DC 20472. You may submit comments on the NIMS I&I, identified by Docket ID FEMA-2008-0016, using one of the following methods:

Federal eRulemaking Portal: http://www.regulations.gov. Follow the instructions for submitting comments, to the proper Docket ID.

E-mail: FEMA-POLICY@dhs.gov. Include Docket ID in the subject line of the message.

Fax: 866-466-5370.

Mail/Hand Delivery/Courier: Regulation & Policy Team, Office of Chief Counsel, Federal Emergency Management Agency, Room 835, 500 C Street, SW., Washington, DC 20472.

Instructions: All Submissions received must include the agency name and Docket ID. Regardless of the method used for submitting comments or material, all submissions will be posted, without change, to the Federal eRulemaking Portal at http://www.regulations.gov, and will include any personal information you provide. Therefore, submitting this information makes it public. You may wish to read the Privacy Act notice that is available on the Privacy and Use Notice link on the Administration Navigation Bar of http://www.regulations.gov.

Docket: For access to the docket to read background documents or comments received, go to the Federal eRulemaking Portal at http://www.regulations.gov. Submitted comments may also be inspected at FEMA, Office of Chief Counsel, Room 835, 500 C Street, SW., Washington, DC 20472.

FOR FURTHER INFORMATION CONTACT: Robert Schweitzer, Executive Director, National Preparedness Directorate, Federal Emergency Management Agency, 500 C Street, SW., Washington, DC 20472, 202-646-3234.

SUPPLEMENTARY INFORMATION: On February 28, 2003, the President issued Homeland Security Presidential Directive-5 (HSPD-5), Management of Domestic Incidents, which directed the Secretary of Homeland Security to develop and administer a National Incident Management System (NIMS). This system provides a consistent nationwide template to enable Federal, State, tribal, and local governments, the private sector, and nongovernmental organizations to work together to prevent, protect against, respond to, recover from, and mitigate the effects of incidents, regardless of cause, size, location, or complexity. This consistency provides the foundation for utilization of NIMS for all incidents, ranging from daily occurrences to incidents requiring a coordinated Federal response. NIMS represents a core set of doctrines, concepts, principles, terminology, and organizational processes that enables effective, efficient, and collaborative incident management. One of the elements of NIMS is the Intelligence/Investigations Function within the Incident Command System (ICS).

This document provides guidance on utilizing and integrating the Intelligence/Investigations Function while adhering to the concepts and principles of the National Incident Management System (NIMS). The Intelligence/Investigations Function within the Incident Command System (ICS) provides a flexible and scalable framework that will allow for the integration of intelligence and investigations activities and information. This guidance and the accompanying Intelligence/Investigations Field Operations Guide (IIFOG) are applicable in all situations involving intelligence/investigations information, ranging from everyday operations that utilize conventional unclassified information, to terrorist incidents where the information is classified at the highest levels and requires the incorporation of national intelligence capabilities provided by U.S. Intelligence Community assets. The document presents information intended for the ICS practitioner (including the Incident Commander/Unified Command) that will assist in the decision-making process regarding the placement of the Function within the command structure, and provides tools that may be used while implementing the Function.

The activities and information that are at the core of this Function are often viewed as primary responsibilities of “traditional” law enforcement. In many cases, intelligence/investigations duties are fulfilled by law enforcement department/agencies, but this Function has aspects that cross disciplines. “Nontraditional,” non-law enforcement forms of investigation might include epidemiological investigations, regulatory investigations, and medical examiner/coroner (ME/C) investigations, as well as those conducted by the National Transportation Safety Board or other investigatory agencies. Moreover, this Function can be utilized for planned events, as well as incidents.

FEMA solicits comments on the draft NIMS I&I, which is available in Docket ID FEMA-2008-0016 at http://www.regulations.gov.

Authority: Homeland Security Act of 2002, as amended, 6 U.S.C. 101 et seq.; Homeland Security Presidential Directive—5, Management of Domestic Incidents; and Implementing Recommendations of the 9/11 Commission Act of 2007, Public Law 110-53, Section 408 and 409.

Dated: December 12, 2008.
R. David Paulison,
Administrator, Federal Emergency Management Agency.

[FR Doc. E8-30332 Filed 12-19-08; 8:45 am]

BILLING CODE 9110-21-P